PEACE CORPS

Information Collection Requests Under OMB Review

AGENCY: Peace Corps.

ACTION: Notice of information collection.

SUMMARY: In accordance with the Paperwork Reduction Act, this notice invites the public to comment on the proposed collection of information by the Peace Corps' Office of the Inspector General. The Peace Corps' Office of the Inspector General wishes to collect feedback on the efficiency and effectiveness of the Peace Corps medical clearance process. The Office of the Inspector General will contact the former applicants by e-mail, telephone or mail and will request them to complete an online or paper survey in which they will share information on their experience completing the medical clearance portion of the Peace Corps application process. A small percentage of these applicants will also be contacted for telephone interviews.

DATES: Submit comments on or before June 11, 2007.

ADDRESSES: Comments should be addressed to Shelley Elbert, Senior Evaluator, Office of Inspector General, Peace Corps, 1111 20th Street, NW., Room L560, Washington, DC 20526. Shelley Elbert can be contacted by telephone at 202-692-2904 or e-mail at selbert@peacecorps.gov. E-mail comments must be made in text and not in attachments.

FOR FURTHER INFORMATION CONTACT: Shelley Elbert, Senior Evaluator, Office of Inspector General, Peace Corps, 1111 20th Street, NW., Room L560, Washington, DC 20526.

SUPPLEMENTARY INFORMATION: The purpose of this survey is to collect feedback from Peace Corps applicants on the efficiency and effectiveness of the Peace Corps medical clearance system. The Peace Corps medical clearance process is the system by which the agency determines whether an applicant is medically fit to become a Peace Corps Volunteer. The applicants who engaged in the medical clearance process are one of the best sources of information on whether the process is running effectively. Determining whether the medical clearance is processing applications efficiently and effectively is critical to the mission of the Peace Corps. There is no statutory or regulatory requirement for this information.

The Peace Corps Office of the Inspector General will use this information to evaluate the current status of the medical clearance system and to make recommendations for necessary changes in policy and or/systems.

Method: The information will be collected primarily through an online survey. A small percentage of those who respond to the online survey will be contacted for additional information through telephone or face to face interviews.

Title: Peace Corps Medical Clearance Survey.

OMB Control Number: [To be assigned.]

Type of Review: Emergency New Collection of Information.

Affected Public: Former applicants to the Peace Corps who at least initiated the medical clearance process.

Estimate of the total number of respondents and the amount of time for an average respondent to respond: 1,673 respondents, ½ hour average written response time. About 45 respondents will be requested to answer oral questions for a hour.

Estimate of the total public burden (in hours) associated with this collection: 881.5 hours.

This notice issued in Washington, DC on May 11, 2007.
Wilbert Bryant,
Associate Director for Management.

[FR Doc. 07-2324 Filed 5-10-07; 8:45 am]

BILLING CODE 6015-01-M